DEPARTMENT OF ENERGY

Federal Energy Regulatory Commission

[Project No. 14338-000]

Spartanburg Water System; Notice of Preliminary Permit Application Accepted for Filing and Soliciting Comments, Motions To Intervene, and Competing Applications

On December 20, 2011, Spartanburg Water System (Spartanburg) filed an application for a preliminary permit, pursuant to section 4(f) of the Federal Power Act (FPA), proposing to study the feasibility of a hydropower project located on the Pacolet River in Spartanburg County, South Carolina. The sole purpose of a preliminary permit, if issued, is to grant the permit holder priority to file a license application during the permit term. A preliminary permit does not authorize the permit holder to perform any land-disturbing activities or otherwise enter upon lands or waters owned by others without the owners' express permission.

The proposed project would consist of: (1) An existing 70.0-foot-high, 700-foot-long roller-compacted concrete dam, owned by Spartanburg; (2) a reservoir with a surface area of 1,050.0 acres and a storage capacity of 23,000 acre-feet; (3) a 8.0-foot-diameter steel penstock installed in the existing outlet conduit; (4) an 8-foot-diameter butterfly valve located at the powerhouse; (5) a powerhouse containing one generating unit with a total capacity of 1,600.0 kilowatts (kW), discharging directly into the dam's existing tailrace; (6) a 1,100-foot-long, 4.16 kilo-volt (KV) transmission line to; (7) a proposed substation; and (8) a 100-foot-long, 12 KV transmission line to the point of interconnection. The project would have an estimated average annual generation of 7,000 megawatt-hours (MWh) and the project power would be sold.

Applicant Contact: Ms. Sue Schneider, General Manager, Spartanburg Water, 200 Commerce Street, P.O. Box 251, Spartanburg, South Carolina 29304. (864) 580-5642.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14338-000) in the docket number field to access the document. For assistance, contact FERC Online Support.

Dated: March 14, 2012.
Nathaniel J. Davis, Sr.,
Deputy Secretary.

[FR Doc. 2012-6632 Filed 3-19-12; 8:45 am]

BILLING CODE 6717-01-P